DEPARTMENT OF ENERGY

Federal Energy Regulatory Commission

[Docket No. RP01-209-000]

Granite State Gas Transmission, Inc.; Notice of Proposed Changes in FERC Gas Tariff

January 18, 2001.

Take notice that on January 12, 2001, Granite State Gas Transmission, Inc. (Granite State) tendered for filing as part of its FERC Gas Tariff, Third Revised Volume No. 1, to be effective January 1, 2001:

Twenty-third Revised Sheet No. 21

Twenty-four Revised Sheets No. 22

Fifteenth Revised Sheet No. 23

Granite State states that this filing is being submitted in accordance with the Commission order issued on September 19, 2000 in Gas Research Institute's (GRI) Docket No. RP00-313-000 (Order Approving Settlement) and in accordance with Section 33 of the General Terms and Conditions of its FERC Gas Tariff. Granite State is submitting revised tariff sheets to reflect the GRI 2001 funding mechanism.

Granite State states further that copies of this filing have been mailed to all of its customers and affected state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party just file a motion to intervene. Copies of this filing are on file with the Commission and are available for public inspection in the Public Reference Room. This filing may be viewed on the web at http:///www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2076 Filed 1-23-01; 8:45 am]

BILLING CODE 6717-01-M